DEPARTMENT OF TRANSPORTATION

Federal Aviation Administration

Notice of Intent To Request Revision From the Office of Management and Budget of a Currently Approved Information Collection Activity, Request for Comments; Dealer's Aircraft Registration Certificate Application

AGENCY: Federal Aviation Administration (FAA), DOT.

ACTION: Notice and request for comments.

SUMMARY: The FAA invites public comments about our intention to request the Office of Management and Budget (OMB) to approve a current information collection. AC Form 8050-5 is an application for a dealer's Aircraft Registration Certificate which, under 49 USC, 1404, may be issued to a person engaged in manufacturing, distributing, or selling aircraft.

DATES: Please submit comments by July 14, 2008.

FOR FURTHER INFORMATION CONTACT: Carla Mauney on (202) 267-9895, or by e-mail at: Carla.Mauney@faa.gov.

SUPPLEMENTARY INFORMATION:

Federal Aviation Administration (FAA)

Title: Dealer's Aircraft Registration Certificate Application.

Type of Request: Extension without change of an approved collection.

OMB Control Number: 2120-0024.

Form(s): AC Form 8050-5.

Affected Public: A total of 2,740 Respondents.

Frequency: The information is collected on occasion.

Estimated Average Burden Per Response: Approximately 45 minutes per response.

Estimated Annual Burden Hours: An estimated 2,055 hours annually.

Abstract: AC Form 8050-5 is an application for a dealer's Aircraft Registration Certificate which, under 49 USC, 1404, may be issued to a person engaged in manufacturing, distributing, or selling aircraft.

ADDRESSES:

Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on May 6, 2008.
Carla Mauney,
FAA Information Collection Clearance Officer, IT Enterprises Business Services Division, AES-200.

[FR Doc. E8-10547 Filed 5-13-08; 8:45 am]

BILLING CODE 4910-13-M